DEPARTMENT OF HOMELAND SECURITY

Coast Guard

46 CFR Part 8

[USCG-2008-1014]

RIN 1625-AB31

International Air Pollution Prevention (IAPP) Certificates

AGENCY: Coast Guard, DHS.

ACTION: Direct final rule; confirmation of effective date.

SUMMARY: On May 8, 2009, the Coast Guard published a direct final rule that notified the public of the Coast Guard's intent to amend its vessel inspection regulations to add the International Air Pollution Prevention (IAPP) certificate to the list of certificates a recognized classification society may be authorized to issue on behalf of the United States. We have not received an adverse comment, or notice of intent to submit an adverse comment, on this rule. Therefore, the rule will go into effect as scheduled.

DATES: The effective date of the direct final rule published at 74 FR 21554, is confirmed as August 6, 2009.

FOR FURTHER INFORMATION CONTACT: If you have questions on this notice, call Mr. Wayne Lundy, Systems Engineering Division, Coast Guard, telephone 202-372-1379.

SUPPLEMENTARY INFORMATION: On May 8, 2009, we published a direct final rule entitled “International Air Pollution Prevention (IAPP) Certificates” in the Federal Register at 74 FR 21554. We promulgated this rule because the United States deposited an instrument of ratification with the International Maritime Organization for Annex VI of the International Convention for the Prevention of Pollution by Ships, 1973 as modified by the Protocol of 1978 (MARPOL 73/78). As a result, Annex VI entered into force for the United States on January 8, 2009. The rule offers a more efficient means for U.S. vessels to obtain an IAPP certificate.

We published the rule as a direct final rule under 33 CFR 1.05-55 because we considered this rule to be noncontroversial and did not expect an adverse comment regarding this rulemaking. In the direct final rule we stated that if no adverse comment, or notice of intent to submit an adverse comment is received by June 22, 2009, the rule would become effective on August 6, 2009.

We have not received adverse comments, or notices of intent to submit adverse comments, on this rulemaking. Therefore, this notice confirms that the direct final rule will become effective as scheduled, on August 6, 2009.

Dated: June 29, 2009.
Howard L. Hime,
Acting Director of Commercial Regulations and Standards, U.S. Coast Guard.

[FR Doc. E9-15875 Filed 7-6-09; 8:45 am]

BILLING CODE 4910-15-P